DEPARTMENT OF JUSTICE

Notice of Lodging of Proposed Consent Decree Under The Clean Water Act

On June 6, 2013, the Department of Justice lodged a proposed Consent Decree with the United States District Court for the Southern District of Florida in the lawsuit entitled United States, State of Florida and State of Florida Department of Environmental Protection v. Miami-Dade County, Civil Action No. 1:12-cv-24400-FAM.

The lawsuit was filed against Miami-Dade County on December 13, 2012 pursuant to Clean Water Act (“CWA”) Sections 309(b) and (d) and 504, 33 U.S.C. 1319(b) and (d) and 1364, and the Florida Air and Water Pollution Control Act, Fla. Stat. Chapter 403, seeking penalties and injunctive relief under Sections 301 and 402 of the CWA, 33 U.S.C. 1311 and 1342, and under Fla. Stat. §§ 403.121, 403.131, 403.141 and 403.161 for (1) unpermitted discharges of untreated sewage from the sanitary sewer system into navigable waters and Florida waters; (2) failure to comply with certain National Pollutant Discharge Elimination System (“NPDES”) effluent permit conditions; (3) failure to comply with standard NPDES permit conditions, including proper operation and maintenance of the sewer system from December 2007 to the filing of the Complaint; and (4) imminent and substantial endangerment to health and welfare of persons, as well as irreparable injury to human health, waters, and property, including animal, plant and aquatic life of the state, due to the numerous sanitary sewer overflows; and the continued threat of failure of Miami-Dade's aged and deteriorated force mains, including the 54-inch force main underneath Government Cut between Fisher Island and south of the City of Miami Beach that conveys untreated wastewater from the City of Miami Beach under Biscayne Bay to the Central District Wastewater Treatment Plant.

The proposed Consent Decree includes an estimated $1.55 billion in capital improvements to Miami-Dade's wastewater collection and transmission system over the next 15 years, including sewer assessment, rehabilitation, repair, and replacement work on force mains, sewer lines, manholes, and pumps, and rehabilitation of all three wastewater treatment plants. Miami-Dade has also agreed to implement a number of EPA sewer maintenance and repair programs which EPA believes will dramatically reduce the incidence and severity of sanitary sewer overflows. Miami-Dade also has agreed to pay a penalty of $978,100, of which $511,800 will be paid to the United States, and $466,300 will be paid to Florida. Miami-Dade has also agreed to complete a Supplemental Environmental Project valued at $2,047,200.

The publication of this notice opens a period for public comment on the Consent Decree. Comments should be addressed to the Assistant Attorney General, Environment and Natural Resources Division, and should refer to United States, State of Florida and State of Florida Department of Environmental Protection v. Miami-Dade County, Civil Action No. 1:12-cv-24400-FAM, D.J. Ref. No. 90-5-1-1-4022/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $81 (25 cents per page reproduction cost) payable to the United States Treasury. For a paper copy of the Consent Decree without the appendices, the cost is $25.25.

Maureen Katz,
Assistant Section Chief, Environmental Enforcement Section, Environment and Natural Resources Division.

[FR Doc. 2013-13913 Filed 6-11-13; 8:45 am]

BILLING CODE 4410-CW-P